DEPARTMENT OF JUSTICE

[OMB Number—1121-NEW]

Agency Information Collection Activities; Proposed eCollection eComments Requested; New Collection of Information; Beneficiary Referral Request

AGENCY: Office of Justice Programs, Department of Justice.

ACTION: 60-Day notice.

SUMMARY: The Department of Justice (DOJ), Office of Justice Programs will be submitting the following information collection request to the Office of Management and Budget (OMB) for review and approval in accordance with the Paperwork Reduction Act of 1995.

DATES: Comments are encouraged and will be accepted for 60 days until October 13, 2015.

FOR FURTHER INFORMATION CONTACT: If you have additional comments especially on the estimated public burden or associated response time, suggestions, or need a copy of the proposed information collection instrument with instructions or additional information, please contact Eugene Schneeberg, Director, Center for Faith-based & Neighborhood Partnerships, U.S. Department of Justice, Washington, DC 20531 (phone (202) 305-7462)).

SUPPLEMENTARY INFORMATION: Written comments and suggestions from the public and affected agencies concerning the proposed collection of information are encouraged. Your comments should address one or more of the following four points:

—Evaluate whether the proposed collection of information is necessary for the proper performance of the functions of the Office of Justice Programs, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: This is a new information collection, which requires the collection and identification of types of information that the Department does not currently collect.

2. The Title of the Form/Collection: Beneficiary Referral Request.

3. The agency form number, if any, and the applicable component of the Department sponsoring the collection: The applicable component within the Department of Justice is the Office of Justice Programs.

4. Affected public who will be asked or required to respond, as well as a brief abstract: The proposed rule includes two new paperwork requirements for faith-based or religious organizations. The proposed rule would require faith-based or religious organizations to give beneficiaries (or prospective beneficiaries) notice informing them of their protections under the regulation. The proposed rule would also require faith-based or religious organizations to make reasonable efforts to identify and refer beneficiaries requesting referrals to alternative service providers.

5. An estimate of the total number of respondents and the amount of time estimated for an average respondent to respond: The Department acknowledges that estimating the number of faith-based or religious organizations that provide services or benefits under Department programs is challenging. To obtain this estimate, the Department relied upon information from two of its grantmaking components: The Office on Violence Against Women (OVW) and the Office of Justice Programs (OJP). OVW estimates that there are approximately 100 grantees and subgrantees that would have to provide the notice to beneficiaries. OJP estimates that there may be fewer than 50 grantees and subgrantees subject to the notice requirement, based on three years of information related to legal name, application for funding, and use of special conditions that is maintained in its Grants Management System. Accordingly, the Department estimates that the total number of organizations that must give notice will be equal to 150. It is further estimated, as stated below, the total hours per year for respondents to give notice is estimated to be 60.

6. An estimate of the total public burden (in hours) associated with the collection: The estimated public burden associated with this collection is 60 hours per year. It is estimated that respondents will take 1 minute to provide the notice. The burden hours for providing a beneficiary referral request was calculated as follows: (150 faith-based or religious organizations × 1/60 hour (the time needed to give the notice) × 12 per year (the number of annual requests for a referral) = 60 hours).

If additional information is required contact: Jerri Murray, Department Clearance Officer, United States Department of Justice, Justice Management Division, Policy and Planning Staff, Two Constitution Square, 145 N Street NE., 3E.405B, Washington, DC 20530.

Dated: August 11, 2015.
Jerri Murray,
Department Clearance Officer for PRA, U.S. Department of Justice.

[FR Doc. 2015-20162 Filed 8-13-15; 8:45 am]

BILLING CODE 4410-18-P